DEPARTMENT OF COMMERCE

International Trade Administration

[A-570-010]

Certain Crystalline Silicon Photovoltaic Products From the People's Republic of China: Rescission of Antidumping Duty Administrative Review; 2018-2019

AGENCY: Enforcement and Compliance, International Trade Administration, Department of Commerce.

SUMMARY: The Department of Commerce (Commerce) is rescinding the administrative review of the antidumping duty order on certain crystalline silicon photovoltaic products (solar products) from the People's Republic of China (China) for the period of review (POR) February 1, 2018, through January 31, 2019.

DATES: Applicable September 13, 2019.

FOR FURTHER INFORMATION CONTACT: Jeff Pedersen, AD/CVD Operations, Office IV, Enforcement and Compliance, International Trade Administration, U.S. Department of Commerce, 1401 Constitution Avenue NW, Washington, DC 20230; telephone: (202) 482-2769.

SUPPLEMENTARY INFORMATION:

Background

On February 8, 2019, Commerce published in the Federal Register a notice of opportunity to request an administrative review of the antidumping duty order on solar products from China for the POR February 1, 2018, through January 31, 2019.¹ In accordance with section 751(a) of the Tariff Act of 1930, as amended (the Act), and 19 CFR 351.213(b), on February 25, 2019, Shenzhen Portable Electronic Technology Co., Ltd. (Shenzhen Portable) requested a review of the order with respect to itself ² and on February 28, 2019, Suniva Inc. requested reviews of the order with respect to 11 companies/company groupings.³ On May 2, 2019, in accordance with section 751(a) of the Act and 19 CFR 351.221(c)(1)(i), Commerce initiated an administrative review of the antidumping duty order on solar products from China with respect to 12 companies/company groupings.⁴ On May 22, 2019, Suniva Inc. timely withdrew its request for a review of all 11 companies/company groupings named in its February 28, 2019 request.⁵ On June 13, 2019, Shenzhen Portable timely withdrew its request for an administrative review of itself.⁶ No other party requested a review.

¹ See Antidumping or Countervailing Duty Order, Finding, or Suspended Investigation; Opportunity to Request Administrative Review, 84 FR 2816 (February 8, 2019).

² See Shenzhen Portable's Letter “Request for Administrative Review,” dated February 25, 2019.

³ See Suniva Inc's Letter “Request for Administrative Review,” dated February 28, 2019.

⁴ See Initiation of Antidumping and Countervailing Duty Administrative Reviews, 84 FR 18777 (May 2, 2019).

⁵ See Suniva Inc's Letter “Withdraw of Request for Administrative Review,” dated May 22, 2019.

⁶ See Shenzhen Portable's Letter “Withdraw of Request for Administrative Review,” dated June 13, 2019.

Rescission of Review

Pursuant to 19 CFR 351.213(d)(1), Commerce will rescind an administrative review, in whole or in part, if the party that requested the review withdraws its request within 90 days of the publication date of the notice of initiation of the requested review. Shenzhen Portable and Suniva Inc. withdrew their requests for review within the 90-day deadline. Because Commerce received no other requests for review, and no other requests were made for a review of the antidumping duty order on solar products from China with respect to other companies, we are rescinding the administrative review covering the POR February 1, 2018, through January 31, 2019, in full, in accordance with 19 CFR 351.213(d)(1).

Assessment

Commerce will instruct U.S. Customs and Border Protection (CBP) to assess antidumping duties on all appropriate entries of solar products from China during the period February 1, 2018, through January 31, 2019, at rates equal to the cash deposit rates for estimated antidumping duties required at the time of entry, or withdrawal from warehouse, for consumption, in accordance with 19 CFR 351.212(c)(1)(i). Commerce intends to issue appropriate assessment instructions to CBP 15 days after the date of publication of this notice in the Federal Register.

Notification to Importers

This notice serves as the only reminder to importers of their responsibility under 19 CFR 351.402(f)(2) to file a certificate regarding the reimbursement of antidumping duties prior to liquidation of the relevant entries during this review period. Failure to comply with this requirement could result in the presumption that reimbursement of antidumping duties occurred and the subsequent assessment of doubled antidumping duties.

Notification Regarding Administrative Protective Order

This notice also serves as the only reminder to parties subject to administrative protective orders (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

This notice is issued and published in accordance with sections 751(a)(1) and 777(i)(1) of the Act and 19 CFR 351.213(d)(4).

Dated: September 9, 2019.
James Maeder,
Deputy Assistant Secretary for Antidumping and Countervailing Duty Operations.

[FR Doc. 2019-19867 Filed 9-12-19; 8:45 am]

BILLING CODE 3510-DS-P